DEPARTMENT OF ENERGY

Federal Energy Regulatory Commission

[Docket No. ES02-19-000]

El Paso Electric Company; Notice of Application

January 8, 2002.

Take notice that on December 26, 2001, El Paso Electric Company submitted an application pursuant to section 204 of the Federal Power Act to make borrowing under a replacement revolving credit facility in an amount not to exceed $100 million, and to extend the maturity date of the first mortgage bonds relating to the revolving credit facility, and to engage in related transactions for the purpose of refinancing a revolving credit facility that provides up to $70 million for nuclear fuel purchases and up to $50 million (depending on the amount of borrowings outstanding for nuclear fuel purchases) for working capital needs.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before January 18, 2002. Protests will be considered by the Commission to determine the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-819 Filed 1-11-02; 8:45 am]

BILLING CODE 6717-01-P